NATIONAL AERONAUTICS AND SPACE ADMINISTRATION

[Notice (02-119)]

Aerospace Safety Advisory Panel; Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Thursday, October 31, 2002, 9 a.m. to 12 Noon Central Time.

ADDRESSES: Nassau Bay Hilton, 3000 NASA Road 1, Houston, TX 77058.

FOR FURTHER INFORMATION CONTACT: Mr. David M. Lengyel, Aerospace Safety Advisory Panel Executive Director, Code Q-1, National Aeronautics and Space Administration, Washington, DC 20546, (202) 358-0391, if you plan to attend.

SUPPLEMENTARY INFORMATION: This meeting will be open to the public up to the seating capacity of the room (40). The agenda for the meeting is to conduct deliberations on CY'02 fact-finding activities and trip reports in preparation for the drafting of the Panel's annual report.

It is imperative that the meeting be held on this date to accommodate the scheduling priorities of the key participants. Visitors will be requested to sign a visitor's register.

Dated: September 23, 2002.
June W. Edwards,
Advisory Committee Management Officer, National Aeronautics and Space Administration.

[FR Doc. 02-24528 Filed 9-26-02; 8:45 am]

BILLING CODE 7510-01-P